DEPARTMENT OF THE TREASURY

Submission for OMB Review; Comment Request

July 5, 2012.

The Department of the Treasury will submit the following information collection request to the Office of Management and Budget (OMB) for review and clearance in accordance with the Paperwork Reduction Act of 1995, Public Law 104-13, on or after the date of publication of this notice.

DATES: Comments should be received on or before August 9, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or at PRA@treasury.gov.

FOR FURTHER INFORMATION CONTACT: Copies of the submission(s) may be obtained by calling (202) 927-5331, email at PRA@treasury.gov, or the entire information collection request may be found at www.reginfo.gov.

Bureau of the Public Debt (BPD)

OMB Number: 1535-0032.

Type of Review: Revision of a currently approved collection.

Title: Application for Disposition of Retirement Plan and/or Individual Retirement Bonds Without Administration of Deceased Owner's Estate.

Form: PD F 3565.

Abstract: Used by heirs of deceased owners of Retirement Plan and/or Individual Retirement Bonds to request disposition.

Affected Public: Individuals or Households.

Estimated Total Burden Hours: 117.

OMB Number: 1535-0055.

Type of Review: Extension without change of a currently approved collection.

Title: Creditor's Request for Payment of Treasury Securities Belonging to a Decedent's Estate Being Settled Without Administration.

Form: PD F 1050.

Abstract: Used to obtain creditors consent to dispose of securities of a deceased owner's estate without administration.

Affected Public: Private Sector: Businesses or other for-profits.

Estimated Total Burden Hours: 150.

OMB Number: 1535-0102.

Type of Review: Revision of a currently approved collection.

Title: Supporting Statement of Ownership for Overdue United States Bearer Securities.

Form: PD F 1071.

Abstract: Used to establish ownership and support a request for payment.

Affected Public: Individuals or Households.

Estimated Total Burden Hours: 225.

OMB Number: 1535-0118.

Type of Review: Extension without change of a currently approved collection.

Title: Disposition of Treasury Securities Belonging to a Decedent's Estate Being Settled Without Administration.

Form: PD F 5336.

Abstract: Used by person(s) entitled to a decedent's estate not being administered to request disposition of securities and/or related payments.

Affected Public: Individuals or Households.

Estimated Total Burden Hours: 12,675.

OMB Number: 1535-0126.

Type of Review: Extension without change of a currently approved collection.

Title: Application for Issue of United States Mortgage Guaranty Insurance Company Tax and Loss Bonds.

Form: PD F 3871.

Abstract: Submitted by companies engaged in the business of writing mortgage guaranty insurance for purpose of purchasing “Tax and Loss” bonds.

Affected Public: Private Sector: Businesses or other for-profits.

Estimated Total Burden Hours: 8.

Dawn D. Wolfgang,
Treasury PRA Clearance Officer.

[FR Doc. 2012-16774 Filed 7-9-12; 8:45 am]

BILLING CODE 4810-39-P